FEDERAL COMMUNICATIONS COMMISSION

[Report No. 2874]

Petitions for Reconsideration and/or Clarification of Action in Rulemaking Proceeding

September 19, 2008.

Petitions for Reconsideration have been filed in the Commission's Rulemaking proceeding listed in this Public Notice and published pursuant to 47 CFR section 1.429(e). The full text of these documents is available for viewing and copying in Room CY-B402, 445 12th Street, SW., Washington, DC or may be purchased from the Commission's copy contractor, Best Copy and Printing, Inc. (BCPI) (1-800-378-3160). Oppositions to these petitions must be filed by October 10, 2008. See section 1.4(b)(1) of the Commission's rules (47 CFR 1.4(b)(1)). Replies to oppositions must be filed within 10 days after the time for filing oppositions has expired.

Subject: In the Matter of Promotion of Competitive Networks in Local Telecommunications Markets (WT Docket No. 99-217).

Number of Petitions Filed: 2.

Marlene H. Dortch,
Secretary.

[FR Doc. E8-22600 Filed 9-24-08; 8:45 am]

BILLING CODE 6712-01-P